DEPARTMENT OF ENERGY

Federal Energy Regulatory Commission

[Docket No. CP07-450-000]

MoGas Pipeline LLC; Notice of Request Under Blanket Authorization

September 27, 2007.

Take notice that on September 21, 2007, MoGas Pipeline LLC (MoGas), 110 Algana Court, St. Peters, Missouri, 63386, filed in Docket No. CP07-450-000, a prior notice request pursuant to sections 157.205 and 157.210 of the Commission's regulations under the Natural Gas Act (NGA) for authorization to construct and operate certain natural gas pipeline facilities, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

MoGas proposes to construct and operate a 4,920 horsepower mainline natural gas compressor station in Pike County, Missouri at its interconnection with the Panhandle Eastern Pipe Line Company. MoGas states that the proposed facilities are designed to increase the capacity on its pipeline system by 100,804 Dth per day. MoGas states that the estimated cost of the proposed facilities is $6,580,000. MoGas also says that earlier in the year, it conducted an open season for the capacity created by this project and that the project is supported by precedent agreements covering all of the capacity initially created by the project.

Any questions regarding the application should be directed to David J. Ries, President, MoGas Pipeline LLC, 10 Algana Court, St. Peters, Missouri 63386, phone (636) 926-3668.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest.

If a protest is filed and not withdrawn within 30 days, the time allowed for the resolution of issues raised in the protest, then this prior notice request shall be treated as an application for authorization pursuant to section 7 of the NGA (18 CFR 157.205(f)).

The Commission strongly encourages electronic filings of comments, protests, and interventions via the Internet in lieu of paper; see 18 CFR 385.2001(a)(1)(iii) and the instructions on the Commission's Web site (http://www.ferc.gov) under the “e-Filing” link.

Kimberly D. Bose,
Secretary.

[FR Doc. E7-19589 Filed 10-3-07; 8:45 am]

BILLING CODE 6717-01-P